DEPARTMENT OF HOUSING AND URBAN DEVELOPMENT

[Docket No. FR-5076-D-13]

Delegation of Authority to the Deputy Assistant Secretary for the Office of Public Housing Investments

AGENCY: Office of the Assistant Secretary for Public and Indian Housing, HUD.

ACTION: Notice of delegation of authority.

SUMMARY: The Assistant Secretary of Public and Indian Housing is delegating to the Deputy Assistant Secretary of the Office of Public Housing Investments concurrent authority to approve proposals submitted by Public Housing Agencies (PHA) pursuant to section 30 of the United States Housing Act of 1937. The Assistant Secretary of Public and Indian Housing is delegating to all Public Housing Field Office Directors all authority to execute Amendments to Consolidated Annual Contributions Contracts that are associated with Proposals submitted by PHAs pursuant to Section 30, which have been approved by either the Assistant Secretary of Public and Indian Housing or the Deputy Assistant Secretary of the Office of Public Housing Investments.

DATES: Effective Date: November 28, 2006.

FOR FURTHER INFORMATION CONTACT: Jeffrey Riddel, Director, Office of Capital Improvements, Department of Housing and Urban Development, 451 Seventh Street, SW., Room 4130, Washington, DC 20410; telephone (202) 708-1640 extension 7378 (this is not a toll-free number). Hearing- or speech-impaired individuals may access this number via TTY by calling the toll-free Federal Information Relay Service at (800) 877-8339.

SUPPLEMENTARY INFORMATION: The Capital Fund Financing Program (CFFP), which is based on Section 30 of the United States Housing Act of 1937, 42 U.S.C. 1437z-2, has been administered by the Office of Public Housing Investments (OPHI) as a pilot program since 2003. The Department is in the process of finalizing draft rules in regard to both the CFFP and the Operating Fund Financing Program (OFFP), which also utilizes this statutory authority. The rules will standardize implementation of the CFFP and initiate the implementation of the OFFP. Both programs will be implemented by OPHI.

Section 30 of the United States Housing Act of 1937 authorizes PHAs, subject to approval by the Secretary, to pledge or mortgage public housing projects or other property. Transactions approved under this authority are also processed by OPHI. By this delegation, the Assistant Secretary for the Office of Public and Indian Housing retains all authority based on Section 30 of the United States Housing Act of 1937, and delegates concurrent authority to the Deputy Assistant Secretary for the Office of Public Housing Investments. As a matter of HUD protocol, Public Housing Field Office Directors generally execute any amendments to the Consolidated Annual Contributions Contract, regardless of the program with which the amendment is associated.

Section 106 of the HUD Reform Act amended section 7 of the Department of Housing and Urban Development Act to allow delegation of authority to approve a waiver of a regulation only to an individual of Assistant Secretary or equivalent rank. This delegation does not include the authority to approve the waiver of a regulation.

Accordingly, the Assistant Secretary for the Office of Public and Indian Housing delegates authority as follows:

Section A. Authority Delegated

The Deputy Assistant Secretary for the Office of Public Housing Investments is hereby delegated concurrent authority with the Assistant Secretary for the Office of Public and Indian Housing with respect to the authority based on Section 30 of the United States Housing Act of 1937, except the authority to approve a waiver of a regulation.

The Assistant Secretary of Public and Indian Housing is delegating to all Public Housing Field Office Directors all authority to execute Amendments to Consolidated Annual Contributions Contracts that are associated with Proposals submitted by PHAs pursuant to Section 30, which have been approved by either the Assistant Secretary of Public and Indian Housing or the Deputy Assistant Secretary of the Office of Public Housing Investments.

Section B. Authority To Redelegate

The authority delegated in this document may not be redelegated by the Deputy Assistant Secretary for the Office of Public Housing Investments.

Authority: 42 U.S.C. 1437z-2, 3535(d), and 3535(q)(2).

Dated: November 28, 2006.
Orlando J. Cabrera,
Assistant Secretary for Public and Indian Housing.

[FR Doc. E6-20562 Filed 12-5-06; 8:45 am]

BILLING CODE 4210-27-P